DEPARTMENT OF ENERGY

Federal Energy Regulatory Commission

[Docket No. CP01-64-000]

Trailblazer Pipeline Company; Notice of Intent To Prepare an Environmental Assessment for the Proposed Trailblazer Expansion Project and Request for Comments on Environmental Issues

February 2, 2001.

The staff of the Federal Energy Regulatory Commission (FERC or Commission) will prepare an environmental assessment (EA) that will discuss the environmental impacts of the Trailblazer Expansion Project involving construction and operation of facilities by Trailblazer Pipeline Company (Trailblazer) in Logan County, Colorado and Lincoln and Kearney Counties, Nebraska.¹ These facilities would consist of 54,800 horsepower (hp) of compression. This EA will be used by the Commission in its decision-making process to determine whether the project is in the public convenience and necessity.

¹ Trailblazer's application was filed with the Commission under Section 7 of the Natural Gas Act and Part 157 of the Commission's regulations.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” was attached to the project notice Trailblazer provided to landowners. This fact sheet addresses a number of typically asked questions, including the use of eminent domain and how to participate in the Commission's proceedings. It is available for viewing on the FERC Internet website (www.ferc.fed.us).

Summary of the Proposed Project

Trailblazer wants to expand the capacity of its facilities in Colorado and Nebraska to transport an additional 324,000 million British thermal units per day of natural gas to two other pipeline companies—Natural Gas Pipeline Company of America and Northern Natural Gas Pipeline Company to serve six shippers. Trailblazer seeks authority to construct and operate:

• A new Compressor Station 601, consisting of two 10,000 hp gas-fired compressors in Logan County, Colorado;

• Increase the horsepower of an electric motor-driven compressor from 5,200 hp to 10,000 hp and install one new 10,000 hp electric unit at Compressor Station 602 in Lincoln County, Nebraska; and

• Construct a new Compressor Station 603, consisting of two 10,000 hp electric motor driven compressors in Kearney County, Nebraska.

In addition, 13 miles of nonjursidictional 69 kilovolt electric power line would be constructed in Kearney County, Nebraska by Southern Power District, to supply electricity for Compressor Station 603. Southern Power District has not yet started work on the power line. An electric substation would also be constructed at Compressor Station 603.

The location of the project facilities is shown on maps in Appendix 1.

Land Requirements for Construction

Construction of the proposed facilities would require up to 113 acres of land. Compressor Station 601 would be built on a 40-acre portion of an 80-acre site. There is a VHF radio building and tower, a warehouse, and a small utility building on the 40-acre site. The additional compressor facilities at existing Compressor Station 602 would be built on a 33-acre portion of the 73-acre site south of the 36-inch-diameter Trailblazer Pipeline. Existing facilities at the station include an office building, compressor building, garage, and weld shop, meter building, and a VHF radio building and tower. Compressor Station 603 would be built on a 40-acre portion of an 80-acre site. In addition to the 36-inch-diameter pipeline, other structures at the site include a VHF radio building and tower, a warehouse, and a small utility building. Following construction, no more than 113 acres would be maintained as new aboveground facility sites. All construction would be located on property owned by Trailblazer.

The EA Process

The National Environmental Policy Act (NEPA) requires the Commission to take into account the environmental impacts that could result from an action whenever it considers the issuance of a Certificate of Public Convenience and Necessity. NEPA also requires us ² to discover and address concerns the public may have about proposals. We call this “scoping.” The main goal of the scoping process is to focus the analysis in the EA on the important environmental issues. By this Notice of Intent, the Commission requests public comments on the scope of the issues it will address in the EA. All comments received are considered during the preparation of the EA. State and local government representatives are encouraged to notify their constituents of this proposed action and encourage them to comment on their areas of concern.

² “We”, “us”, and “our” refer to the environmental staff of the Office of Energy Projects (OEP).

The EA will discuss impacts that could occur as a result of the construction and operation of the proposed project under these general headings:

• geology and soils

• vegetation and wildlife

• air quality and noise

• endangered and threatened species

• land use

• cultural resources

• hazardous waste

No impacts to water resources, fisheries and wetlands are expected. An off-site wetland area is located approximately 75 feet from the northwest corner and 25 feet from the north-central property boundary of Compressor Station 603. However, no wetland areas exist on the Compressor Station 603 property. We will also evaluate possible alternatives to the proposed project or portions of the project, and make recommendations on how to lessen or avoid impacts on the various resource areas.

Our independent analysis of the issues will be in the EA. Depending on the comments received during the scoping process, the EA may be published and mailed to Federal, state, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation section below.

Currently Identified Environmental Issues

We have already identified several issues that we think deserve attention based on a preliminary review of the proposed facilities and the environmental information provided by Trailblazer. This preliminary list of issues may be changed based on your comments and our analysis.

• Federally listed endangered or threatened species may occur in the proposed project area.

• Residents in the vicinity of the project may be affected by operational noise from the compressor stations.

• Potential environmental impacts may result from the construction of 13 miles of nonjurisdictional 69 kilovolt electric power line that would be constructed by Southern Power District.

Also, we have made a preliminary decision to address the environmental impacts of the nonjurisdictional electric power line facilities to the extent the information is available. The two preliminary routes proposed for the power line are shown on the maps attached (see Appendix 1), but the final route may change. However, our staff will not make any recommendations on route changes for the electric power line. Also, under Nebraska State laws, Southern Power District must follow a public notice procedure to notify landowners. After the public notice is issued for the power line, landowners would be contacted about the route by Southern Power District. Therefore, this NOI is not being sent to any landowners on the electric power line route. We believe the State of Nebraska notification procedure to landowners should be adequate.

Public Participation

You can make a difference by providing us with your specific comments or concerns about the project. By becoming a commentor, your concerns will be addressed in the EA and considered by the Commission. You should focus on the potential environmental effects of the proposal, alternatives to the proposal (including alternative locations/routes), and measures to avoid or lessen environmental impact. The more specific your comments, the more useful they will be. Please carefully follow these instructions to ensure that your comments are received in time and properly recorded:

• Send an original and two copies of your letter to: David P. Boergers, Secretary, Federal Energy Regulatory Commission, 888 First St., NE., Room 1A, Washington, DC 20426.

• Label one copy of the comments for the attention of Gas 2.

• Reference Docket No. CP01-64-000.

• Mail your comments so that they will be received in Washington, DC on or before March 5, 2001.

Comments may also be filed electronically via the Internet in lieu of paper. See 18 CFR 385.2001(a)(1)(iii) and the instructions on the Commission's web site at http://www.ferc.fed.us/efi/doorbell.htm under the link to the User's Guide. Before you can file comments you will need to create an account which can be created by clicking on “Login to File” and then “New User Account.”

If you do not want to send comments at this time but still want to remain on our mailing list, please return the Information Request (appendix 3). If you do not return the Information Request, you will be taken off the mailing list.

Becoming an Intervenor

In addition to involvement in the EA scoping process, you may want to become an official party to the proceeding known as an “intervenor.” Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's Rules of Practice and Procedure (18 CFR 385.214) (see appendix 2). Only intervenors have the right to seek rehearing of the Commission's decision.

Affected landowners and parties with environmental concerns may be granted intervenor status upon showing good cause by stating that they have a clear and direct interest in this proceeding which would not be adequately represented by any other parties. You do not need intervenor status to have your environmental comments considered.

Additional information about the proposed project is available from the Commission's Office of External Affairs at (202) 208-1088 or on the FERC website (www.ferc.fed.us) using the “RIMS” link to information in this docket number. Click on the “RIMS” link, select “Docket #” from the RIMS Menu, and follow the instructions. For assistance with access to RIMS, the RIMS helpline can be reached at (202) 208-2222.

Similarly, the “CIPS” link on the FERC Internet website provides access to the texts of formal documents issued by the Commission, such as orders, notices, and rulemakings. From the FERC Internet website, click on the “CIPS” link, select “Docket #” from the CIPS menu, and follow the instructions. For assistance with access to CIPS, the CIPS helpline can be reached at (202) 208-2474.

David P. Boergers,
Secretary.

[FR Doc. 01-3144 Filed 2-6-01; 8:45 am]

BILLING CODE 6717-01-M